ENVIRONMENTAL PROTECTION AGENCY

[FRL-7990-7]

Proposed CERCLA Administrative Agreement; Liberty Industrial Finishing Superfund Site

AGENCY: Environmental Protection Agency (EPA).

ACTION: Notice; request for public comment.

SUMMARY: In accordance with the Agency's May 24, 1995, “Guidance on Agreements with Prospective Purchasers of Contaminated Property,” notice is hereby given of a proposed prospective purchaser agreement (“PPA agreement”) with The Stop & Shop Supermarket Company LLC (“Respondent”) concerning Respondent's ground lease of an approximately 9-acre parcel of real property (the “Property”) included within the Liberty Industrial Finishing Superfund Site in the Village of Farmingdale, Town of Oyster Bay, Nassau County, New York (the “Site”) and Respondent's potential use of the Property by construction and operation of a shopping center including a supermarket and fueling facility. Under the PPA agreement, the United States would covenant not to sue or take administrative action against Respondent under section 106 or 107(a) of the Comprehensive Environmental Response, Compensation, and Liability Act of 1980, as amended (“CERCLA”) if Respondent becomes an operator of the Property. In consideration, Respondent would perform work at the Site that EPA has valued at approximately $100,000 and will also pay to EPA the amount of $12,500. By publication of this Notice, a thirty (30) day period has been established in which the Agency will accept written comments relating to the PPA agreement. The Agency will consider all comments received and may modify or withdraw its consent to the PPA agreement if comments received disclose facts or considerations which indicate that the agreement is inappropriate, improper, or inadequate. The Agency's response to any comments received will be available for public inspection at the U.S. Environmental Protection Agency, Region II, Office of Regional Counsel, New York/Caribbean Superfund Branch, 290 Broadway, 17th Floor, New York, NY 10007-1866.

DATES: Comments must be submitted on or before November 30, 2005.

ADDRESSES: The proposed PPA agreement and additional background information relating to the settlement are available for public inspection at the U.S. Environmental Protection Agency, Region II, Office of Regional Counsel, New York/Caribbean Superfund Branch, 290 Broadway, 17th Floor, New York, NY 10007-1866. A copy of the proposed PPA agreement may be obtained from the individual listed below. Comments should reference the Liberty Industrial Finishing Superfund Site, Nassau County, New York and EPA Index No. CERCLA-02-2005-2005, and should be addressed to the individual listed below.

FOR FURTHER INFORMATION CONTACT: Michael A. Mintzer, Assistant Regional Counsel, New York/Caribbean Superfund Branch, Office of Regional Counsel, U.S. Environmental Protection Agency, 290 Broadway, 17th Floor, New York, NY 10007-1866, Telephone: (212) 637-3168.

Dated: October 17, 2005.
William McCabe,
Acting Director, Emergency and Remedial Response Division, Region II.

[FR Doc. 05-21624 Filed 10-28-05; 8:45 am]

BILLING CODE 6560-50-P